INTERNATIONAL TRADE COMMISSION

[Investigation 332-413]

The Economic Impact of U.S. Sanctions With Respect to Cuba

AGENCY: United States International Trade Commission.

ACTION: Institution of investigation.

EFFECTIVE DATE: April 14, 2000.

SUMMARY: Following receipt of a request on March 15, 2000, from the Committee on Ways and Means of the U.S. House of Representatives, the Commission instituted investigation No. 332-413, The Economic Impact of U.S. Sanctions with Respect to Cuba, a report to the Congress and the President under section 332(g) of the Tariff Act of 1930 (19 U.S.C. 1332(g)).

FOR FURTHER INFORMATION CONTACT: Information may be obtained from James Stamps (202-205-3227), Office of Economics, or Mr. Jonathan Coleman (202-205-3465), Office of Industries, U.S. International Trade Commission, Washington, DC, 20436. For information on the legal aspects of this investigation, contact William Gearhart of the Office of the General Counsel (202-205-3091). Hearing impaired individuals are advised that information on this matter can be obtained by contacting the TDD terminal on (202) 205-1810.

Background: The Committee on Ways and Means requested that the Commission's report include the following, to the extent data are available:

1. an overview of U.S. sanctions with respect to Cuba;

2. a description of the Cuban economy, Cuban trade and investment policies, and trade and investment trends; and

3. an analysis of the historical impact of U.S. sanctions on both the U.S. and Cuban economies, especially on affected sectors, and to the extent possible, on U.S. exports, imports, employment, consumers, and investment.

In addition, the Committee requested that the Commission provide an evaluation of the current impact on U.S.-Cuban bilateral trade, investment, employment, and consumers of the economic sanctions on trade and investment with Cuba, with particular attention to the effects on U.S. services, U.S. agriculture, and other sectors for which the impact is likely to be significant.

The Committee on Ways and Means further requested that the Commission's report employ, as appropriate, a combination of quantitative and qualitative analyses.

The Commission plans to submit its report, The Economic Impact of U.S. Sanctions with Respect to Cuba, by February 15, 2001.

Public Hearing: A public hearing in connection with the investigation will be held at the U.S. International Trade Commission Building, 500 E Street SW, Washington, DC, beginning at 9:30 a.m. on September 19, 2000. All persons shall have the right to appear, by counsel or in person, to present information and to be heard. Requests to appear at the public hearing should be filed with the Secretary, United States International Trade Commission, 500 E Street SW, Washington, DC 20436, no later than 5:15 p.m., August 29, 2000. Any prehearing briefs (original and 14 copies) should be filed not later than 5:15 p.m., September 12, 2000; the deadline for filing post-hearing briefs or statements is 5:15 p.m., September 28, 2000. In the event that, as of the close of business on August 29, 2000, no witnesses are scheduled to appear at the hearing, the hearing will be canceled. Any person interested in attending the hearing as an observer or non-participant may call the Secretary of the Commission (202-205-1806) after August 29, 2000, to determine whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on October 4, 2000. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects

Cuba, sanctions, exports, imports.

By order of the Commission.
Issued: April 14, 2000.
Donna R. Koehnke,
Secretary.

[FR Doc. 00-10072 Filed 4-21-00; 8:45 am]

BILLING CODE 7020-02-P